DEPARTMENT OF AGRICULTURE

Forest Service

Black Hills National Forest, SD; Thunder Basin National Grassland, WY; Teckla-Osage-Rapid City Transmission 230 kV Project

AGENCY: Forest Service, USDA.

ACTION: Notice of intent to prepare an environmental impact statement.

SUMMARY: The Forest Service will prepare an environmental impact statement (EIS) on a proposal by Black Hills Power (BHP) to construct and operate a 230 kilovolt (kV) transmission line between the Teckla and Osage Substations in northeastern Wyoming to the Lange Substation in Rapid City, South Dakota. The Bureau of Land Management (BLM) will be a cooperating agency on this EIS. The Teckla-Osage-Rapid City Transmission 230 kV Project would be approximately 150 miles long. It would cross portions of the Black Hills National Forest and private lands in South Dakota and portions of the Thunder Basin National Grasslands, private lands, BLM lands, and state lands in Wyoming. The line would be constructed on wood or steel H-frame structures for most of its length with possibly some steel monopole structures in the Rapid City area. The structures would be 65 to75 feet tall and the line would require a right-of-way approximately 125 feet wide.

DATES: Comments concerning the scope of the analysis would be most useful if received by 30 days following the date of this notice. The draft environmental impact statement is expected to be available for public review by November 2012 and the final environmental impact statement is expected to be completed by June 2013.

ADDRESSES: Send written comments to Dave Slepnikoff, Project Manager, Black Hills National Forest, 8221 South Highway 16, Rapid City, South Dakota 57702; or Geri Proctor, Thunder Basin National Grasslands, 2250 East Richards Street, Douglas, WY 82633-8922. Send comments via e-mail to comments-rocky-mountain-black-hills-mystic@fs.fed.us with “Teckla-Osage-Rapid City Transmission Project” as the subject. Electronic comments must be readable in Word, Rich Text or PDF formats.

FOR FURTHER INFORMATION CONTACT: Those with questions or needing additional information should contact Dave Slepnikoff, Team Leader and Project Manager, at the Mystic Ranger District office in Rapid City at (605) 343-1567, or Geri Proctor at the Thunder Basin National Grasslands in Douglas, WY at (307) 358-4690. Individuals who use telecommunication devices for the deaf (TDD) may call the Federal Information Relay Service (FIRS) at 1-800-877-8339 between 8 a.m. and 8 p.m., Eastern Time, Monday through Friday.

SUPPLEMENTARY INFORMATION: The actions proposed are in direct response to an application submitted to the Black Hills National Forest and Thunder Basin National Grassland by Black Hills Power (BHP) to construct and operate a 230 kilovolt (kV) transmission line between the Teckla and Osage Substations in northeast Wyoming and the Lange Substation in Rapid City, South Dakota. The project area covers parts of Campbell and Weston Counties in Wyoming, and Pennington, Meade, and Lawrence Counties in South Dakota.

Purpose and Need for Action

The purpose of the Teckla-Osage-Rapid City Transmission Project is to:

• Strengthen the regional transmission network.

• Improve the reliability of the transmission system.

• Provide additional transmission capacity to help meet the growing demand for electricity and economic development in the region.

Proposed Action

The proposed action is to construct the Teckla-Osage-Rapid City 230 kV transmission line as described below:

• Approximately 135 miles of transmission line.

• Require a 125 foot right-of-way.

• Construction of wood or steel H-frame structures 65-75 feet in height.

This proposal also includes specific actions needed for interim and final reclamation.

Lead and Cooperating Agencies

The Bureau of Land Management will be a cooperating agency on this EIS.

Responsible Officials

Craig Bobzien, Forest Supervisor, Black Hills National Forest, 1019 N. 5th Street, Custer, SD 57730; and Richard A. Cooksey, Deputy Forest Supervisor, Medicine Bow—Routt National Forest and Thunder Basin National Grassland, 2250 East Richards Street, Douglas, WY 82633-8922.

Nature of Decision To Be Made

The Forest Supervisors will decide whether the proposed action will proceed as proposed or as modified by an alternative; which recommended mitigation measures and monitoring requirements will be applied; and whether a Forest Plan Amendment is required.

Preliminary Issues

Anticipated issues include effects of the project on plants and wildlife including sensitive species such as sage grouse, goshawks, and other raptors; archaeological sites; hydrology and water quality; and scenic integrity and visual resources.

Scoping Process

This notice of intent initiates the scoping process, which guides the development of the environmental impact statement. Comments and input regarding the proposal will be received via direct mailing from the public, other groups, and agencies during the initial public comment period through October 28, 2011. Public meetings are scheduled for September 13, 2011 between 4-7 pm at the Hell Canyon Ranger District Office, 1225 Washington Boulevard in Newcastle, WY; and September 20, 2011 between 6-8 pm at the Mystic Ranger District office, 8221 South Highway 16 in Rapid City, SD. Comments submitted based on this NOI will be most useful if received within 30 days from the date of this notice. Response to the draft EIS is expected to be sought from the interested public beginning in November 2012.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: August 19, 2011.
Dennis Jaeger,
Deputy Forest Supervisor, Black Hills National Forest.

[FR Doc. 2011-21712 Filed 8-25-11; 8:45 am]

BILLING CODE 3410-11-P